ENVIRONMENTAL PROTECTION AGENCY

[FRL-6857-3]

Proposed Settlement Under Section 122(g) of the Comprehensive Environmental Response, Compensation, and Liability Act; In the Matter of Lakeland Disposal Service, Inc., Claypool, Indiana

AGENCY: U.S. Environmental Protection Agency (U.S. EPA).

ACTION: Notice; request for public comment.

SUMMARY: Notice of De Minimis Settlement: In accordance with section 122(i)(1) of the Comprehensive Environmental Response, Compensation, and Liability Act of 1980, as amended (CERCLA), U.S. EPA gives notice of a proposed administrative settlement concerning the remedial action at the Lakeland Disposal Service, Inc., Superfund Site, Claypool, County of Kosciusko, Indiana (the Site). The proposed agreement will resolve issues concerning one individual De Minimis landowner at the Site. U.S. EPA has previously submitted the proposed agreement to the U.S. Department of Justice for review and has received its approval for the proposed agreement via letter dated March 7, 2000.

DATES: Comments must be provided on or before September 25, 2000.

ADDRESSES: Barbara Wester (C-14J), Office of Regional Counsel, U.S. Environmental Protection Agency, Region 5, 77 W. Jackson Boulevard, Chicago, Illinois 60605-3590. Include the following name of the matter in the comment: In the Matter of Lakeland Disposal Service, Inc., Claypool, Indiana, U.S. EPA Docket No. V-W-99-C-561.

FOR FURTHER INFORMATION CONTACT: Barbara Wester (C-14J), Office of Regional Counsel, U.S. Environmental Protection Agency, Region 5, 77 W. Jackson Boulevard, Chicago, Illinois 60604-3590.

SUPPLEMENTARY INFORMATION: Homer Dove owns approximately five (5) acres of property located adjacent to and within the boundaries of the Site and did not himself contribute any wastes to the Site. The Record of Decision (ROD) for the Site, issued on September 28, 1993, contemplated that deed restrictions and institutional controls would be an important part of the remedy. The Settlement provides: That Dana Corporation; Eaton Corporation; General Motors Corporation; United Technologies Automotive, Inc.; and Warsaw Black Oxide, Inc. (collectively, the UAO Group) will compensate Mr. Dove for the loss of use of his property; that Mr. Dove will establish the contractual access provisions and deed restrictions necessary to effect the on-going remediation of the Site proscribed by the ROD; and that Mr. Dove will convert these contractual promises to the form of an environmental easement, if U.S. EPA request that he do so. U.S. EPA will receive written comments relating to this settlement agreement for a period of thirty (30) days from the date of publication of this notice. Under CERCLA section 122(i)(3), U.S. EPA will consider any comments filed during this public comment period in “determining whether or not to consent to the proposed settlement and may withdraw or withhold consent to the proposed settlement if such comments disclose facts or considerations which indicate the proposed settlement is inappropriate, improper, or inadequate.”

Copies of the proposed administrative settlement agreement and of additional background information relating to the settlement are available for review. These may be obtained in person at the Superfund Division's public records center, 7th Floor, U.S. Environmental Protection Agency, Region 5, 77 W. Jackson Boulevard, Chicago, Illinois 60604-3590, or by mail from Barbara Wester (C-14J), Office of Regional Counsel, U.S. Environmental Protection Agency, Region 5, 77 W. Jackson Boulevard, Chicago, Illinois 60604-3590.

Authority: The Comprehensive Environmental Response, Compensation, and Liability Act of 1980, as amended, 42 U.S.C. 9601-9675.

Margaret M. Guerriero,
Acting Director, Superfund Division, Region 5.

[FR Doc. 00-21668 Filed 8-23-00; 8:45 am]

BILLING CODE 6560-50-M